DEPARTMENT OF COMMERCE

National Oceanic and Atmospheric Administration

50 CFR Part 679

[Docket No. 0612242964-7332-02; I.D. 080106C]

RIN 0648-AS84

Fisheries of the Exclusive Economic Zone Off Alaska; Individual Fishing Quota Program; Community Development Quota Program

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements implementing the Individual Fishing Quota (IFQ) Program for the fixed-gear commercial Pacific halibut fishery and sablefish fishery. OMB assigned OMB Control Number 0648-0569 to the collection of information contained in these regulations. The intent of this final rule is to announce the effective date of these regulations is January 28, 2008.

DATES: The collection of information requirements in §§ 679.42(d) and 679.42(i), published on August 9, 2007 (72 FR 44795), are effective January 28, 2008.

ADDRESSES: Written comments regarding the burden-hour estimates or other aspects of the collection-of-information requirements contained in this final rule may be submitted to NMFS Alaska Region, P.O. Box 21668, Juneau, AK 99802, Attn: Ellen Sebastian, and by email to David_Rostker@omb.eop.gov or fax to 202-395-7285.

FOR FURTHER INFORMATION CONTACT: Patsy A. Bearden, NMFS, 907-586-7228 or e-mail at patsy.bearden@noaa.gov.

SUPPLEMENTARY INFORMATION: A final rule that modified the Individual Fishing Quota (IFQ) Program for the fixed-gear commercial Pacific halibut fishery and sablefish fishery was published in the Federal Register on August 9, 2007 (72 FR 44795), and most of the measures were effective September 10, 2007. However, because OMB approval of the reporting requirements contained in this final rule at 50 CFR parts 679.42(d) and 679.42(i) had not been received by the effective date of the rule, the effective date of these collection-of-information requirements were delayed. On October 31, 2007, NMFS received OMB approval for these collection-of-information requirements and assigned OMB Control Number 0648-0569 to them. Consequently, NMFS announces the effectiveness of these regulations relating to IFQ Medical Transfer Application, appeal, and proof-of-ownership documentation for the hired master changes.

A complete explanation of the requirements imposed by these regulations and the rationale for them was provided in the proposed rule (72 FR 64218, November l, 2006), and the August 9, 2007 final rule (72 FR 44795).

Notwithstanding any other provision of the law, no person is required to respond to, nor shall any person be subject to a penalty for failure to comply with, a collection-of-information subject to the requirements of the Paperwork Reduction Act (PRA), unless that collection-of- information displays a currently valid OMB control number.

This rule contains collection-of-information requirements subject to the PRA that have been approved by OMB under control number 0648-0569. Public reporting burden per response is estimated to average 2 hours for Application for Medical Transfer of IFQ; 4 hours for each letter of appeal if an application is denied by NMFS; and 1 hour for each proof-of-ownership document for the hired master changes.

The estimated response time includes the time needed for reviewing instructions, searching existing data sources, gathering and maintaining the data needed, and completing and reviewing the collection of information. Send comments regarding these reporting burden estimates or any other aspect of the collection-of-information, including suggestions for reducing the burden, to NMFS and OMB (see ADDRESSES).

List of Subjects in 50 CFR Part 679

Alaska, Fisheries, Recordkeeping and reporting requirements.

Dated: December 19, 2007.
Samuel D. Rauch III,
Deputy Assistant Administrator For Regulatory Programs, National Marine Fisheries Service.

[FR Doc. E7-25076 Filed 12-27-07; 8:45 am]

BILLING CODE 3510-22-S